DEPARTMENT OF TRANSPORTATION

Federal Highway Administration

[Docket No. FHWA-2018-0019]

Agency Information Collection Activities: Request for Comments for the Renewal of a Previously Approved Information Collection

AGENCY: Federal Highway Administration (FHWA), DOT.

ACTION: Notice and request for comments.

SUMMARY: In compliance with the Paperwork Reduction Act (PRA) of 1995, this notice announces that FHWA will submit the collection of information described below to the Office of Management and Budget (OMB) for review and comment. The Federal Register Notice with a 60-day comment period soliciting comments on the following collection of information was published on February 28, 2018. The PRA submission describes the nature of the information collection and its expected cost and burden.

DATES: Please submit comments by June 22, 2018.

ADDRESSES: You may submit comments identified by DOT Docket ID Number FHWA 2018-0013, by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Julie Johnston, Office of Program Administration, 202-591-5858, Julie.johnston@dot.gov, Federal Highway Administration, Department of Transportation, 1200 New Jersey Avenue SE, Washington, DC 20590. Office hours are from 8 a.m. to 5 p.m., Monday through Friday, except Federal holidays.

SUPPLEMENTARY INFORMATION:

Title: Value Engineering Call for Data.

Background: Value Engineering (VE) is defined as a systematic process of review and analysis of a project, during the concept and design phases, by a multidiscipline team of persons not involved in the project, that is conducted to provide recommendations for providing the needed functions safely, reliably, efficiently, and at the lowest overall cost; improving the value and quality of the project; and reducing the time to complete the project. Applicable projects requiring a VE analysis include Projects on the National Highway System (NHS) receiving Federal assistance with an estimated total cost of $50,000,000 or more; Bridge projects on the NHS receiving Federal assistance with an estimated total cost of $40,000,000 or more; any major project, as defined in 23 U.S.C. 106(h), located on or off the NHS, that utilizes Federal-aid highway funding in any contract or phase; and other projects as defined in 23 CFR 627.5. 23 U.S.C. 106(e)(4)(iv) and 23 CFR 627.7(3) require States to monitor, evaluates and annually submit a report that describes the results of the value analyses that are conducted and the recommendations implemented on applicable projects. The FHWA will submit a National Call for VE Data in order to monitor and assess the VE Program and meet the requirements of 23 U.S.C. 106(h).

Respondents: 52.

Frequency: Once per year.

Estimated Average Burden per Response: Approximately 2 hours per participant over a year.

Estimated Total Annual Burden Hours: Approximately 104 hours per year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: May 16, 2018.
Michael Howell,
Information Collection Officer.

[FR Doc. 2018-11021 Filed 5-22-18; 8:45 am]

BILLING CODE 4910-22-P